DEPARTMENT OF THE INTERIOR

National Park Service

[NPS-WASO-NRSS-EQD-12283; PPWONRADB1, PPMRSNR1N.NA0000]

Proposed Information Collection; Comment Request: NPS Institutional Animal Care and Use Committee (IACUC) General Submission, Exhibitor, Annual Review, and Amendment Forms

AGENCY: National Park Service (NPS), U.S. Department of the Interior.

ACTION: Notice and request for comments.

SUMMARY: We (National Park Service) have submitted to the Office of Management and Budget (OMB) the information collection request (ICR) described below. This collection will consist of four forms (General Submission, Exhibitor, Annual Review, and Amendment Forms) used by the Institutional Animal Care and Use Committee (NPS IACUC/the Committee) to ensure compliance with the Animal Welfare Act (AWA), its regulations (AWAR), and the Interagency Research Animal Committee (IRAC) principles for projects involving the use of animals in research, teaching, and/or exhibition. To comply with the Paperwork Reduction Act of 1995 and as a part of our continuing efforts to reduce paperwork and respondent burden, we invite the general public and other federal agencies to comment on this ICR. We may not conduct or sponsor and a person is not required to respond to, a collection unless it displays a currently valid OMB control number.

DATE: To ensure that your comments on this ICR are considered, please submit them on or before March 13, 2013.

ADDRESSES: Please submit written comments on this information collection directly to the Office of Management and Budget (OMB) Office of Information and Regulatory Affairs, Attention: Desk Officer for the Department of the Interior via email to OIRA_Submission@omb.eop.gov or fax at 202-395-5806; and identify your submission as 1024-IACUC. Please also send a copy your comments to Phadrea Ponds, Information Collections Coordinator, National Park Service, 1201 Oakridge Drive, Fort Collins, CO 80525 (mail); or phadrea_ponds@nps.gov (email).

FOR FURTHER INFORMATION CONTACT: Jordan Spaak, NPS IACUC Administrator, by mail at Biological Resource Management Division 1201 Oakridge Drive, Suite 200 Fort Collins, CO 80525 or Jordan_Spaak@nps.gov (email). Or contact: John Bryan at John_Bryan@nps.gov (email).

SUPPLEMENTARY INFORMATION:

I. Abstract

All research, teaching, and exhibition projects involving animals taking place on NPS territories must be approved by the NPS IACUC prior to their commencement. Principal Investigators (PI) are required to submit the completed General Submission, Exhibitor, Annual Review, and/or Amendment Forms as required for approval to the NPS IACUC Office.

II. Data

OMB Control Number: None. This collection is currently in use without an OMB Control Number.

Title: NPS Institutional Animal Care and Use Committee (IACUC) General Submission, Exhibitor, Annual Review, and Amendment Forms.

Type of Request: New.

Affected Public: State and Local Agencies, Businesses, non-profit organizations, and Universities (those entities involved in research, teaching, and exhibition projects involving the use of animals in NPS units).

Respondent's Obligation: Mandatory.

Frequency of Collection: Annually.

Estimated Annual Number of Respondents: 190.

Estimated Total Annual Burden Hours: 348 hours. We expect to receive 190 annual responses. We estimate that it will take an average of 3 hours to complete the General Submission or Exhibitor forms; 15 minutes to complete the Amendment form; and 10 minutes to complete the Annual Review form.

Estimated Reporting and Recordkeeping “Non-Hour Cost” Burden: None

III. Comments

On September 26, 2012 we published a Federal Register notice (77 FR 59222) announcing that we would submit this ICR to OMB for approval. Public comments were solicited for 60 days ending November 26, 2012. We received one comment that did not require a any changes to the information collection burden of this submission. No changes were made based on the comment.

We again invite comments concerning this ICR on: (1) Whether or not the proposed collection of information is necessary for the agency to perform its duties, including whether or not the information will have practical utility; (2) the accuracy of our estimate of the burden for this collection of information; (3) ways to enhance the quality, utility, and clarity of the information to be collected; and (4) ways to minimize the burden of the collection of information on respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 5, 2013.
Madonna Baucum,
Information Collection Clearance Officer, National Park Service.

[FR Doc. 2013-03046 Filed 2-8-13; 8:45 am]

BILLING CODE 4312-EH-P